DEPARTMENT OF THE INTERIOR

Bureau of Reclamation

[DES 03-43]

Lower Santa Ynez River Fish Management Plan and Cachuma Project Biological Opinion for Southern Steelhead Trout, Santa Barbara County, CA

AGENCY: Bureau of Reclamation, Interior.

ACTION: Notice of availability of the draft environmental impact statement/environmental impact report (EIS/EIR).

SUMMARY: In accordance with the National Environmental Policy Act of 1969, the Bureau of Reclamation (Reclamation) has prepared a Draft EIS/EIR for the Lower Santa Ynez River Fish Management Plan (Plan) and Cachuma Project Biological Opinion (Opinion) for Southern Steelhead Trout. The Plan and Opinion include various flow and non-flow measures to be implemented by Reclamation and the Cachuma Project Member Units to protect and enhance habitat for the endangered southern steelhead trout along the Santa Ynez River downstream of Bradbury Dam.

DATES: Written comments on the Draft EIS/EIR will be accepted for 45 days following the date the Environmental Protection Agency publishes the Notice of Availability of the Draft EIS/EIR in the Federal Register, anticipated to occur in April 2003.

ADDRESSES: Written comments should be sent or hand-delivered to: David Young, Bureau of Reclamation, South-Central California Area Office, 1243 N Street, Fresno, California, 93721, phone: 559-487-5127. Comments submitted by electronic mail should be sent to: dkyoung@mp.usbr.gov. Please include “Cachuma EIS/EIR” and your name and return address in the text of the message.

Copies of the Draft EIS/EIR for the Plan and Opinion are available in the South-Central California Area Field Office at the above address, or at the Cachuma Operation and Maintenance Board Office, 3301 Laurel Canyon Road, Santa Barbara, California, 93105, from 7:30 a.m. to 4:30 p.m., Monday through Friday.

FOR FURTHER INFORMATION CONTACT: David Young, Bureau of Reclamation, at the above address, or at 559-487-5127.

SUPPLEMENTARY INFORMATION: The Cachuma Project consists of Bradbury Dam, Cachuma Lake, and various water conveyance facilities. The dam impounds water along the Santa Ynez River in northern Santa Barbara County. Water is provided to the Cachuma Project Member Units for irrigation, domestic, and municipal and industrial water uses. The current Member Units consist of the City of Santa Barbara, Goleta Water District, Montecito Water District, Carpinteria Valley Water District, and the Santa Ynez River Water Conservation District—Improvement District #1. Reclamation owns all project facilities and operates Bradbury Dam. Operation and maintenance of the Cachuma Project facilities, other than Bradbury Dam, was transferred in 1956 to the Member Units who formed Cachuma Operation and Maintenance Board (COMB) to carry out these responsibilities.

In August 1997, the National Marine Fisheries Service (NMFS) designated the anadromous steelhead (Oncorhynchus mykiss) of the Southern Evolutionarily Significant Unit (ESU), which includes the lower Santa Ynez River below Bradbury Dam, as an endangered species under the Federal Endangered Species Act. In April 1999, Reclamation requested initiation of consultation with NMFS regarding ongoing operations of the Cachuma Project under the provisions of Section 7 of the Federal Endangered Species Act. Reclamation submitted a Biological Assessment (BA) to NMFS in 1999. The proposed actions described in the BA are designed to improve the availability and quality of habitat for the steelhead in the lower river. NMFS issued a final Opinion in September 2000. The Opinion concluded that the proposed actions described in the BA would not jeopardize the continued existence of the anadromous steelhead of the Southern ESU, nor destroy or adversely modify critical habitat. The Opinion included mandatory terms and conditions that require Reclamation to implement 15 specific reasonable and prudent measures to minimize “take” of the southern steelhead. Reclamation will implement the management actions and projects in the Opinion to ensure compliance with the Federal Endangered Species Act.

Prior to, and concurrent with, the endangered species consultation, Reclamation and the Cachuma Member Units prepared a Fish Management Plan (FMP) for the lower Santa Ynez River. The FMP management actions include (1) creating new habitat and improving existing habitat in the lower river and tributaries; (2) improving access to spawning and rearing habitats in the lower river and tributaries; and (3) increasing public awareness and support for beneficial actions on private lands. The FMP identifies specific reaches of the mainstem and tributaries for habitat protection and improvement. The highest priority has been assigned to lower Hilton Creek, which is located on Reclamation property, and the mainstem of the river between Bradbury Dam and Highway 154. A high priority is also assigned to enhancing habitats on the following tributaries which have favorable flows and habitat conditions for aquatic resources: Quiota, El Jaro, and Salsipuedes creeks.

The overall purposes of the BO and FMP management actions are two-fold:

(1) Ensure that operation of the Cachuma Project is consistent with the Federal Endangered Species Act regarding effects on the southern steelhead; and (2) improve conditions for native fish, particularly the endangered southern steelhead, in the Santa Ynez River watershed below Bradbury Dam.

Reclamation and Cachuma COMB have prepared the draft EIS/EIR to evaluate the incidental adverse impacts of the proposed management actions and projects to improve fish habitat conditions on the Santa Ynez River below Bradbury Dam in northern Santa Barbara County. These impacts include temporary construction related disturbances to riparian and aquatic habitat during fish habitat restoration work in the river and tributaries; impacts to oak trees and recreational facilities at Cachuma Lake due to surcharging the reservoir to store additional water for downstream releases for fish; and others described in the Draft EIS/EIR.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Editorial Note: This document was received in the Office of the Federal Register on July 21, 2003.

Dated: March 31, 2003.
Frank Michny,
Regional Environmental Officer, Mid-Pacific Region.

[FR Doc. 03-18905 Filed 7-23-03; 8:45 am]

BILLING CODE 4310-MN-P